DEPARTMENT OF EDUCATION

Withdrawal of Notice Inviting Applications and Cancellation of the Competition for the Expanding Opportunity Through Quality Charter Schools Program (CSP)—Grants to State Entities

AGENCY: Office of Elementary and Secondary Education, Department of Education.

ACTION: Notice; withdrawal.

SUMMARY: The Department of Education (Department) withdraws the notice inviting applications (NIA) for fiscal year (FY) 2025 for CSP Grants to State Entities.

DATES: The NIA published in the Federal Register on January 21, 2025 (90 FR 7104), is withdrawn and the competition cancelled as of February 4, 2025.

FOR FURTHER INFORMATION CONTACT: Sareeta Schmitt, U.S. Department of Education, 400 Maryland Avenue SW, Washington, DC 20202-5970. Telephone: (202) 205-0730. Email: SE_Competition@ed.gov.

If you are deaf, hard of hearing, or have a speech disability and wish to access telecommunications relay services, please dial 7-1-1.

SUPPLEMENTARY INFORMATION: On January 21, 2025, the Department published NIAs for two programs in the CSP in the Federal Register, one of which is for the FY 2025 CSP Grants to State Entities (SE grants), Assistance Listing Number (ALN) 84.282A. The Department is withdrawing this NIA as part of a comprehensive review of recently published FY 2025 CSP NIAs. This reevaluation aims to ensure that all priorities and requirements for the FY 2025 CSP competitions align with the program priorities set by the Trump Administration, comply with Executive orders issued since January 20, 2025, and promote consistency across all CSP grant programs. The Department has also determined that aligning all CSP grant competitions will ensure greater impact on students and families. Additionally, alignment of CSP priorities will increase the economic impact of the Federal education funds awarded for the CSP.

The Department intends to announce a new NIA for SE grants, ALN 84.282A in FY 2025. This NIA will unleash innovation, minimize excessive and unnecessary oversight, and lessen the reporting burden for both applicants and grant recipients. By adopting this streamlined approach, the Department is committed to maximizing the impact of its funding efforts while creating a more efficient application process.

The Department does not expect that withdrawing this NIA will significantly impact our ability to make grant awards for FY 2025 under this competition because the Administration anticipates issuing a new NIA in the near future.

Intergovernmental Review: This program is subject to Executive Order 12372 and the regulations in 34 CFR part 79.

Accessible Format: On request to the program contact person listed under FOR FURTHER INFORMATION CONTACT, individuals with disabilities can obtain this notice and the NIA in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site, you can view this document, as well as all other Department documents published in the Federal Register, in text or Portable Document Format (PDF). To use PDF, you must have Adobe Acrobat Reader, which is available free at the site.

You may also access Department documents published in the Federal Register by using the article search feature at www.federalregister.gov. Specifically, through the advanced search feature at this site, you can limit your search to documents published by the Department.

Denise Carter,
Acting Secretary of Education.

[FR Doc. 2025-02139 Filed 2-3-25; 8:45 am]

BILLING CODE 4000-01-P